INTERNATIONAL TRADE COMMISSION

[Inv. No. 337-TA-496]

In the Matter of: Certain Home Vacuum Packaging Products; Notice of Commission Decision Not To Review an Initial Determination Granting a Motion To Withdraw Two Patent Claims From the Investigation

AGENCY: U.S. International Trade Commission.

ACTION: Notice.

SUMMARY: Notice is hereby given that the U.S. International Trade Commission has determined not to review the presiding administrative law judge's (“ALJ's”) initial determination (“ID”) granting a motion to withdraw claims 24 and 25 of U.S. Patent No. 4,941,310, from the above-captioned investigation.

FOR FURTHER INFORMATION CONTACT: Timothy P. Monaghan, Esq., Office of the General Counsel, U.S. International Trade Commission, 500 E Street, SW., Washington, DC 20436, telephone (202) 205-3152. Copies of the Commission order, and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: On August 18, 2003, the Commission instituted this investigation based upon a complaint filed by Tilia, Inc. and Tilia International (collectively, “Tilia”). 68 FR 49521. At the same time, the Commission provisionally accepted a motion for temporary relief filed by Tilia. In its complaint, Tilia alleges that the accused imported products infringe claims 3, 4, 6, 24-25, and 34 of U.S. Patent No. 4,941,310 (“the '310 patent”). The notice of investigation named Applica, Inc., Applica Consumer Products, Inc.; ZeroPack Co., Ltd.; The Holmes Group, Inc.; and The Rival Company as respondents. On January 15, 2004, the Commission determined not to review an ID denying Tilia's motion for temporary relief. On February 3, 2004, Tilia moved pursuant to rules 210.21(a)(1) to withdraw claims 24 and 25 of the '310 patent from the investigation. Respondents and the Commission investigative attorney did not oppose the motion. On February 18, 2004, the ALJ issued an ID granting Tilia's motion to withdraw claims 24 and 25 of the '310 patent from the investigation. No petitions of the ID were filed.

This action is taken under the authority of section 337 of the Tariff Act of 1930, 19 U.S.C. 1337, and § 210.42 of Commission's Rules of Practice and Procedure, 19 CFR 210.42.

By order of the Commission.
Issued: March 10, 2004.
Marilyn R. Abbott,
Secretary to the Commission.

[FR Doc. 04-5803 Filed 3-12-04; 8:45 am]

BILLING CODE 7020-02-P